DEPARTMENT OF TRANSPORTATION

Office of the Secretary

Review Under 49 U.S.C. 41720 of Delta/Northwest/Continental Agreements

AGENCY: Office of the Secretary, Department of Transportation.

ACTION: Extension of waiting period.

SUMMARY: Delta Air Lines, Northwest Airlines, and Continental Airlines have submitted code-sharing and frequent-flyer program reciprocity agreements to the Department for review under 49 U.S.C. 41720. That statute requires such agreements between major U.S. passenger airlines to be submitted to the Department at least thirty days before the agreements' proposed effective date and authorizes the Department to extend the waiting period for these agreements at the end of the thirty-day period. The Department has determined to extend the waiting period for the Delta/Northwest/Continental agreements for an additional thirty days, from October 22 to November 21, 2002.

FOR FURTHER INFORMATION CONTACT: Thomas Ray, Office of the General Counsel, 400 Seventh St. SW., Washington, DC 20590, (202) 366-4731.

SUPPLEMENTARY INFORMATION: Delta, Northwest, and Continental submitted code-sharing and frequent-flyer program reciprocity agreements to us for review under 49 U.S.C. 41720 on August 23, more than thirty days before the airlines planned to implement these agreements. Under that statute we may extend the waiting period by 150 days for code-sharing agreements and by sixty days for other types of agreements. We have already extended the waiting period for these agreements once by thirty days. 67 FR 59328 (September 20, 2002).

We have been informally reviewing the agreements submitted by Delta, Continental, and Northwest. We are considering the comments submitted by interested parties, the three airlines' agreements, and other information in our possession, and we have been consulting with the Justice Department, which is responsible for enforcing the antitrust laws in the airline industry. Several carriers recently jointly asked the Department to extend the waiting period for the code-share agreement for the full 150-day period permitted by law and grant their request for a more extensive production of evidence from Delta, Continental, and Northwest. That request, received in writing late in the day on October 15, 2002, was made by Air Tran Airways, America West Airlines, Frontier Airlines, JetBlue Airways, Midwest Express Airlines, Southwest Airlines, and Spirit Airlines.

We have again determined that we need more time for our analysis of the issues presented by the Delta/Continental/Northwest joint venture agreements. Those issues are important and require careful consideration. We have therefore determined to extend the waiting period by another thirty days, from October 22 to November 21. We took similar action on the United/US Airways joint venture agreements. 67 FR 59328 (September 20, 2002). We will also consider the joint request made by several carriers to further extend the waiting period for the proposed code-share agreement and for additional evidence and will deal with it separately.

We intend to complete our review as promptly as possible, so that the three airlines will know our views on whether and under what terms they may go forward with the agreements.

Issued in Washington, DC on October 18, 2002.
Read C. Van de Water,
Assistant Secretary for Aviation and International Affairs.

[FR Doc. 02-26973 Filed 10-21-02; 8:45 am]

BILLING CODE 4910-62-P